DEPARTMENT OF THE INTERIOR

Bureau of Land Management

[AZ-050-02-1430-FM; AZA 31808]

Notice of Intent To Amend the Lower Gila South Resource Management Plan

AGENCY: Bureau of Land Management, Interior.

ACTION: Notice of Intent to amend the Lower Gila South Resource Management Plan (RMP), Arizona.

SUMMARY: Pursuant to the Federal Land Policy and Management Act (FLPMA) and the National Environmental Policy Act (NEPA), the Bureau of Land Management (BLM), Yuma Field Office, Arizona will prepare an environmental assessment (EA) to consider an amendment to the Lower Gila South Resource Management Plan (RMP) (June 1988). The proposed plan amendment will assess impacts of proposed changes in land tenure classification and management of Federal lands in La Paz County in southwestern Arizona. It will also assess a proposed land exchange pursuant to Section 206 of FLPMA, and the regulations found at 43 CFR part 2200. Currently, the Lower Gila South RMP does not designate the public lands in La Paz County as suitable for disposal.

DATES: Written comments will be accepted for 30 days from the date of publication of this notice in the Federal Register.

ADDRESSES: Comments should be send to Bureau of Land Management, Yuma Field Office, 2555 East Gila Ridge Road, Yuma, Arizona, 85365. Comments should address issues to be considered, whether the planning criteria are adequate for the issues, reasonable alternatives to examine, and relevant information on the proposed plan amendment. Comments, including names and street addresses of respondents, will be available for public review at the Yuma Field Office, during regular business hours 7:45 a.m. to 4:30 p.m., Monday through Friday, except holidays. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Contact Stephen Fusilier at 928-317-3296 or Micki Bailey 928-317-3215.

SUPPLEMENTARY INFORMATION: The proposed plan amendment is required to allow BLM to consider a land exchange proposal submitted by Allegheny Energy Supply, LLC. the proposal involves exchanging 480.80 acres of Federal land located in the Harquahala Valley near the intersection of Interstate 10 and Avenue 75E (Exit 69) in La Paz County for approximately 1,500 acres of privately owned land within or adjacent to the Gila River. Cultural Area of Critical Environmental Concern (ACEC), also known as Sears Point located near Aztec in Yuma county. The Federal lands proposed for land exchange are described as follows:

Gila and Salt River Meridian, La Paz County, Arizona

T. 2 N., R. 11 W.,

Sec. 1 lots 1 to 4, inclusive, S½N½, SE¼.

The area described contains 480.80 acres. The non-Federal lands will be determined from the following described pool of lands:

Gila and Salt River Meridian, Yuma County, Arizona

T. 6 S., R. 11 W.,

Sec. 1, lots 1 to 4, inclusive, S½N½, N½S½, SE¼SW¼;

Sec. 2, lots 1 to 4, inclusive, S½N½, S½;

Sec. 3, SW¼, N½SE¼;

Sec. 4, lots 2 to 4, inclusive, SW¼NE¼, S½NW¼;

Sec. 5, lots 1 to 4, inclusive, S½N½, N½SW¼, SW¼SW¼, NW¼SE¼;

Sec. 6, lots 1 to 5, inclusive, S½NE¼, SE¼NW¼;

Sec. 8, W½W½, E½SE¼;

Sec. 9, W½SW¼;

Sec. 10, S½NW¼, SE¼SE¼;

Sec. 11, S½S½NE¼, S½SE¼NW¼, S½S½;

Sec. 12, N½NE¼, N½S½NE¼, SW¼SW¼NE¼, E½NW¼, S½SW¼NW¼, SW¼, S½S½NE¼SE¼, NW¼NW¼SE¼, S½NW¼SE¼, S½SE¼;

Sec. 13, NW¼, S½;

Sec. 14, all;

Sec. 17, NE¼, SE¼SE¼;

Sec. 23, N½NE¼, SE¼NE¼SE¼, E½SE¼SE¼;

Sec. 24, NE¼, N½NW¼, S½.

T. 7 S., R. 11 W.,

Sec. 1, lots 3 and 4, S½NW¼, S½.

The areas described aggregate 6,091.51 acres. The proposed plan amendment to the Lower Gila South RMP will be integrated with the proposed Sears Point-North Harquahala Valley land exchange, and the impact will be analyzed in a single EA. Tentative planning issues include (1) the proposed change in land ownership; (2) management of the Gila River Cultural ACEC; and (3) social and economic impacts on the counties. This action would allow BLM to further develop its management strategy at the Gila River Cultural ACEC. The following planning criteria are proposed to guide the resolution of the issues: (1) actions must comply with laws, executive orders, and regulations; (2) the long-term benefits to the public in relation to short-term benefits must be considered; (3) alternatives must be reasonable; and (4) evaluation must use the interdisciplinary approach to land management.

Dated: April 15, 2002.
Tom Zaie,
Assistant Field Manager.

[FR Doc. 02-12923 Filed 5-22-02; 8:45 am]

BILLING CODE 4310-32-M